DEPARTMENT OF COMMERCE

Foreign-Trade Zones Board

[Docket 49-2011]

Proposed Foreign-Trade Zone—Brunswick, ME; Application

An application has been submitted to the Foreign-Trade Zones Board (the Board) by the Midcoast Regional Redevelopment Authority to establish a general-purpose foreign-trade zone at a site in Brunswick, Maine, adjacent to the Portland CBP port of entry. The application was submitted pursuant to the provisions of the Foreign-Trade Zones Act, as amended (19 U.S.C. 81a-81u), and the regulations of the Board (15 CFR part 400). It was formally filed on July 26, 2011. The applicant is authorized to make the proposal under Maine Statute Title 5, Section 13083-Q.

The proposed zone would be the second general-purpose zone for the Portland CBP port of entry. The existing zone is as follows: FTZ 263, Auburn, Maine (Grantee: Lewiston-Auburn Economic Growth Council, Board Order 1354, 10/01/04).

The proposed zone would consist of one site in Brunswick, Maine: Proposed Site 1 (394 acres)—within the 3,200-acre Brunswick Landing's Airport complex located at the intersection of Bath Road and Fitch Avenue. The site is owned by the Midcoast Regional Redevelopment Authority.

The application indicates a need for zone services in the Brunswick, Maine area. Several firms have indicated an interest in using zone procedures for warehousing/distribution activities for a variety of products. Specific manufacturing approvals are not being sought at this time. Such requests would be made to the Board on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is September 30, 2011. Rebuttal comments in response to material submitted during the foregoing period may be submitted during the subsequent 15-day period to October 17, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Kathleen Boyce at Kathleen.Boyce@trade.gov or (202) 482-1346.

Dated: July 27, 2011.
Andrew McGilvray,
Executive Secretary.

[FR Doc. 2011-19404 Filed 7-29-11; 8:45 am]

BILLING CODE P